DEPARTMENT OF JUSTICE

Office of Justice Programs

[OMB Number 1121-0095]

Agency Information Collection Activities: Proposed Collection; Comments Requested 2013 National Survey of Indigent Defense Systems

ACTION: 60-day notice.

The Department of Justice (DOJ), Office of Justice Programs, Bureau of Justice Statistics will be submitting the following information collection request to the Office of Management and Budget (OMB) for review and approval in accordance with the Paperwork Reduction Act of 1995. The proposed information collected is published to obtain comments from the public and affected agencies. Comments are encouraged and will be accepted for “sixty days” until March 11, 2014. This process is conducted in accordance with 5 CFR 1320.10.

If you have comments especially the estimated public burden or associated response time, suggestions, or need a copy of the proposed information collection instrument with instructions or additional information, please contact Alexia Cooper, Statistician, Bureau of Justice Statistics, Office of Justice Programs, U.S. Department of Justice, 810 Seventh Street NW., Washington, DC 20531 (phone: 202-302-0582).

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility and clarity of the information to be collected; and

—Minimize the burden of the collection of information on those who are to respond, including through the use of appropriate automated, electronic, mechanical, or other technological collection techniques or other forms of information technology, e.g., permitting electronic submission of responses.

Overview of this information collection:

(1) Type of information collection: Reinstatement with change of a previously approved collection for which approval has expired

(2) The title of the Form/Collection: 2013 National Survey of Indigent Defense Systems

(3) Agency form number, if any, and the applicable component of the Department of Justice sponsoring the collection: OMB Control #1121-0095, Bureau of Justice Statistics, Office of Justice Programs, United States Department of Justice.

(4) Affected public who will be asked to respond, as well as a brief abstract: Primary: State and county based indigent defense systems. Staff in state and county based indigent defense systems will be asked to provide information on the following: fiscal resources and expenditures; case-types and caseloads; personnel and compensation; processes for selecting the chief public defender or administrator; procedures for indigence determination; professional development opportunities; use of information technology; standards and guidelines; and boards or commissions. The Bureau of Justice Statistics plans to publish this information in reports and reference it when responding to queries from the U.S. Congress, Executive Office of the President, the U.S. Supreme Court, state officials, international organizations, researchers, students, the media, and others interested in criminal justices statistics.

(5) An estimate of the total number of respondents and the amount of time estimated for an average respondent to respond: 1,574 respondents at 3.0 hours each. Respondents have the option to provide responses using either paper or web-based questionnaires. The burden estimate is based on feedback from respondents gathered during pilot testing.

(6) An estimate of the total public burden (in hours) associated with the collection: There is an estimated 4,694 annual total burden hours associated with this collection.

If additional information is required contact: Jerri Murray, Department Clearance Officer, United States Department of Justice, Justice Management Division, Policy and Planning Staff, Two Constitution Avenue, 145 N Street NE., Room 3W-1407B, Washington, DC 20530.

Dated: January 7, 2014.
Jerri Murray,
Department Clearance Officer for PRA, Department of Justice.

[FR Doc. 2014-00218 Filed 1-9-14; 8:45 am]

BILLING CODE 4410-18-P